DEPARTMENT OF TRANSPORTATION

Federal Aviation Administration

[Docket No: FAA-2023-0203]

Deadline for Notification of Intent To Use the Airport Improvement Program (AIP) Primary, Cargo, and Nonprimary Entitlement Funds Available to Date for Fiscal Year 2023

AGENCY: Federal Aviation Administration (FAA), DOT.

ACTION: Federal Register notice.

SUMMARY: This action announces February 28, 2023, as the deadline for each airport sponsor to notify the FAA if it will use its Fiscal Year (FY) 2023 entitlement funds to accomplish Airport Improvement Program (AIP) eligible projects. Each sponsor has previously identified to the FAA such projects through the Airports Capital Improvement Plan process. This action further announces May 5, 2023, as the deadline for an airport sponsor to submit a final grant application, based on bids, for grants that will be funded with FY 2023 entitlement funds only.

FOR FURTHER INFORMATION CONTACT: David F. Cushing, Manager, Airports Financial Assistance Division, APP-500, at (202) 267-8827.

SUPPLEMENTARY INFORMATION: Title 49 U.S.C. 47105(f) provides that the sponsor of an airport for which entitlement funds (referred to as apportionments in 49 U.S.C. 47114) are apportioned shall notify the Secretary, by such time and in a form as prescribed by the Secretary, of the airport sponsor's intent to submit a grant application for its available entitlement funds. Therefore, the FAA is hereby notifying such airport sponsors of the steps required to ensure that the FAA has sufficient time to carry over and convert remaining entitlement funds.

The AIP grant program is authorized by Public Law 115-254, the “FAA Reauthorization Act of 2018,” enacted on October 5, 2018, which permits the FAA to make grants for planning and airport development and airport noise compatibility under the AIP through September 30, 2023. The funds allocated to the FAA to fund the AIP grant program are appropriated by an annual Appropriations Act. Apportioned funds will be subject to allocation formulas prescribed by 49 U.S.C. 47114 and any other applicable legislative text.

This notice applies only to sponsors of airports that have entitlement funds appropriated for FY 2023 to use on eligible and justified projects. State aviation agencies participating in the FAA's State Block Grant Program, as prescribed by 49 U.S.C. 47128, are responsible for notifying the FAA which covered nonprimary airports in their programs will be using their entitlement funds for eligible and justified projects.

An airport sponsor intending to apply for any of its available entitlement funds, including those unused, but still available in accordance with 49 U.S.C. 47117 from prior years, must notify the FAA of its intent to submit a grant application by 12:00 p.m. prevailing local time on Tuesday, February 28, 2023.

This notice must be in writing and stipulate the total amount the sponsor intends to use for eligible and justified projects during FY 2023, including those entitlement funds not obligated from prior years that remain available in accordance with 49 U.S.C. 47117 (also known as protected carryover). These notifications are critical to ensure efficient planning and administration of the AIP. Absent the notification of intent to submit a grant application by the above-mentioned deadline, the FAA will carry over the available entitlement funds on March 10, 2023. These funds will not be available again to the airport sponsor until the beginning of FY 2024.

The final grant application deadline for entitlement funds only is Friday, May 5, 2023. The final grant application funding requests should be based on bids, not estimates. As prescribed under 49 U.S.C. 47117, the FAA will carryover the remainder of available entitlement funds after June 9, 2023. These funds will not be available again to the airport sponsor until the beginning of FY 2024. Dates are subject to possible adjustment based on future legislation. As of the publication of this notice, the appropriations and the authorization legislation for the FAA both expire on September 30, 2023.

The FAA has determined these deadlines will expedite and facilitate the FY 2023 grant-making process.

Issued in Washington, DC, on January 24, 2023.
Juan C. Brown,
Director (Acting), Office of Airport Planning and Programming.

[FR Doc. 2023-01733 Filed 1-27-23; 8:45 am]

BILLING CODE 4910-13-P